DEPARTMENT OF DEFENSE

Office of the Secretary

[Transmittal No. 22-72]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 22-72, and Policy Justification.

Dated: September 9, 2024.
Aaron T. Siegel,
Alternate OSD Federal Register Liaison Officer, Department of Defense.

BILLING CODE 6001-FR-P

BILLING CODE 6001-FR-C

Transmittal No. 22-72

Notice of Proposed Issuance of Letter of Offer Pursuant to Section 36(b)(1) of the Arms Export Control Act, as amended

(i) Prospective Purchaser: Government of Bahrain

(ii) Total Estimated Value:

Major Defense Equipment * | $ 0 million
Other | $350 million
TOTAL | $350 million

Funding Source: National Funds

(iii) Description and Quantity or Quantities of Articles or Services under Consideration for Purchase:

Major Defense Equipment (MDE):

None

Non-MDE:

The Government of Bahrain has requested to buy equipment and services to refurbish twenty-four (24) Excess Defense Article (EDA) AH-1W multi-role helicopters. Included are services to refurbish a full-motion Aircraft Procedures Trainer (APT), M272A1 missile launchers and spare T-700-GE-401 aircraft engines, spare parts, support, training, publications, and other related elements of logistics and program support.

(iv) Military Department: Navy (BA-P-SAV)

(v) Prior Related Cases, if any: None

(vi) Sales Commission, Fee, etc., Paid, Offered, or Agreed to be Paid: None

(vii) Sensitivity of Technology Contained in the Defense Article or Defense Services Proposed to be Sold: None

(viii) Date Report Delivered to Congress: March 29, 2023

*As defined in Section 47(6) of the Arms Export Control Act.

POLICY JUSTIFICATION

Bahrain—Refurbishment of AH-1W Attack and Reconnaissance Helicopters

The Government of Bahrain has requested to buy equipment and services to refurbish twenty-four (24) Excess Defense Article (EDA) AH-1W multi-role helicopters. Included are services to refurbish a full-motion Aircraft Procedures Trainer (APT), M272A1 missile launchers and spare T-700-GE-401 aircraft engines, spare parts, support, training, publications, and other related elements of logistics and program support. The estimated total cost is $350 million.

This proposed sale will support the foreign policy and national security objectives of the United States by helping to improve the security of a Major Non-NATO ally that is an important force for political stability and economic progress in the Middle East.

The proposed sale will improve Bahrain's capability to meet current and future threats by improving its ability to fulfill maritime patrol, close air support, and search and rescue missions. Bahrain will have no difficulty absorbing these defense articles and services into its armed forces.

The proposed sale of these services and support will not alter the basic military balance in the region.

The principal contractor will be Bell Corporation, Fort Worth, TX. There are no known offset agreements proposed in connection with this potential sale.

Implementation of this proposed sale will not require the assignment of any additional U.S. Government or contractor representatives to Bahrain.

There will be no adverse impact on U.S. defense readiness as a result of this proposed sale.

[FR Doc. 2024-20735 Filed 9-11-24; 8:45 am]

BILLING CODE 6001-FR-P